Memorandum of May 24, 2019

Delegation of Functions and Authorities Under the Sanctioning the Use of Civilians as Defenseless Shields Act

Memorandum for the Secretary of State [and] the Secretary of the Treasury

By the authority vested in me as President by the Constitution and the laws of the United States of America, including section 301 of title 3, United States Code, I hereby:

(a) delegate to the Secretary of State the functions and authorities vested in the President by section 3(g) of the Sanctioning the Use of Civilians as Defenseless Shields Act Public Law 115-348) (the “Act”); and

(b) delegate to the Secretary of the Treasury, in consultation with the Secretary of State, the functions and authorities vested in the President by sections 3(a), 3(b), 3(c), 3(d)(1), and 3(h) of the Act.

The functions and authorities delegated by this memorandum shall be exercised in coordination with departments and agencies through the National Security Presidential Memorandum-4 process. Any reference in this memorandum to the Act shall be deemed to be a reference to any future Act that is the same or substantially the same as such provision.

The Secretary of State is authorized and directed to publish this memorandum in the Federal Register.

THE WHITE HOUSE,

Washington, May 24, 2019

[FR Doc. 2019-12696

Filed 6-12-19; 11:15 am]

Billing code 4710-10-P